DEPARTMENT OF ENERGY

Federal Energy Regulatory Commission

[Docket No. EG01-45-000]

Constellation Power Source Generation, Inc.; Notice of Amended and Restated Application for Commission Redetermination of Exempt Wholesale Generator Status

February 15, 2001.

Take notice that on January 19, 2001, Constellation Power Source Generation, Inc. (Constellation) tendered for filing with the Federal Energy Regulatory Commission (Commission), an amended and restated application for redetermination of exempt wholesale generator status.

Any person desiring to be heard concerning the amended and restated application for exempt wholesale generator status should file a motion to intervene or comments with the Federal Energy Regulatory Commission, 888 First Street, NE., Washington, DC 20426, in accordance with Rules 211 and 214 of the Commission's Rules of Practice and Procedure (18 CFR 385.211 and 385.214). The Commission will limit its consideration of comments to those that concern the adequacy or accuracy of the amended and restated application. All such motions and comments should be filed on or before March 1, 2001, and must be served on the applicant. Any person wishing to become a party must file a motion to intervene. Copies of this filing are on file with the Commission and are available for public inspection or on the Internet at http://www.ferc.fed.us/online/rims.htm (please call (202) 208-2222 for assistance). Comments and protest may be filed electronically via the internet in lieu of paper. See, 18 CFR 385.2001(a)(1)(iii) and the instructions on the Commission's web site at http://www.ferc.fed.us/efi/doorbell.htm.

David P. Boergers,
Secretary.

[FR Doc. 01-4343 Filed 2-21-01; 8:45 am]

BILLING CODE 6717-01-M